ENVIRONMENTAL PROTECTION AGENCY

[FRL-9943-11-ORD]

Environmental Laboratory Advisory Board (ELAB) Membership

AGENCY: U.S. Environmental Protection Agency (EPA).

ACTION: Notice soliciting nominations for membership.

SUMMARY: The U.S. Environmental Protection Agency's (EPA) invites nominations from a diverse range of qualified candidates to be considered for appointment to its Environmental Laboratory Advisory Board (ELAB). The ELAB is a multi-stakeholder federal advisory committee that provides independent advice and recommendations to the EPA Administrator, Science Advisor, and Forum on Environmental Measurements (FEM) about cross-cutting issues related to enhancing EPA's measurement programs, and facilitating the operation and expansion of national environmental accreditation.

This notice solicits nominations to fill eight-nine (8-9) new vacancies. To maintain diverse representation, nominees will be selected from the following stakeholder work force sectors:

• Academia

• Business and industry

• Environmental laboratory commercial, municipal, small, other

• Environmental laboratory suppliers of services

• State and local Government agencies

• Tribal governments and indigenous groups

• Trade associations

Within these sectors, EPA is seeking nominees with knowledge in methods development; measurements; monitoring and regulatory programs; quality systems; and environmental accreditation. In an effort to obtain nominations of diverse candidates, the agency encourages nominations of women and men of all racial and ethnic groups. All nominations will be fully considered.

Any interested person or organization may nominate qualified persons to be considered for appointment to this advisory committee. Individuals may self-nominate. Nominees should possess the following qualifications:

• Demonstrated experience with environmental measurement programs and environmental accreditation;

• Willingness to commit time to the committee, and demonstrated ability to work constructively and effectively on committees;

• Excellent interpersonal, oral, and written communication and consensus-building skills; and

• Ability to serve a 2-year appointment and volunteer approximately 5-7 hours per month to support the Board's activities.

How to Submit Nominations: Nominations can be submitted in electronic format (preferred) to Ms. Lara P. Phelps, Designated Federal Officer, US EPA, MC E243-05, 109 T. W. Alexander Drive, Research Triangle Park, NC 27709, or email to phelps.lara@epa.gov and should be received by April 1, 2016 for October 2016 appointment. To be considered, all nomination packages should include:

• Current contact information for the nominee, including the nominee's name, organization (and position within that organization), current business address, email address, and daytime telephone number.

• Brief statement describing the nominee's interest in serving on the ELAB.

• Resume describing the professional and educational qualifications of the nominee, including a list of relevant activities, and any current or previous service on advisory committees.

• Letter(s) of recommendation from a third party supporting the nomination.

For further questions regarding this notice, please contact Lara P. Phelps at (919) 541-5544 or phelps.lara@epa.gov.

Dated: February 23, 2016.
Thomas Burke,
EPA Science Advisor.

[FR Doc. 2016-04445 Filed 2-29-16; 8:45 am]

BILLING CODE 6560-50-P